DEPARTMENT OF THE INTERIOR

Fish and Wildlife Service

[FWS-R9-MB-2010-N073; 91200-1231-9BPP-L2]

Draft Supplemental Environmental Impact Statement on the Issuance of Annual Regulations Permitting the Hunting of Migratory Birds

AGENCY: Fish and Wildlife Service, Interior.

ACTION: Notice of availability.

SUMMARY: The U.S. Fish and Wildlife Service (Service or we) has prepared a draft supplemental environmental impact statement (SEIS) for the issuance of annual regulations permitting the hunting of migratory birds. The SEIS analyzes a range of management alternatives for addressing the hunting of migratory birds. The analysis provided in the draft SEIS is intended to: inform the public of the proposed action and alternatives; address public comments we received during the scoping period; and disclose the direct, indirect, and cumulative environmental effects of the proposed action and each of the alternatives. We invite the public to comment on the draft SEIS.

DATES: In order to ensure that we are able to consider your comments, we must receive them on or before March 26, 2011.

ADDRESSES: You may submit comments on the draft SEIS by one of the following methods:

• U.S. mail or hand-delivery: Pacific Flyway Representative, Division of Migratory Bird Management, U.S. Fish and Wildlife Service, 911 NE. 11th Ave., Portland, OR 97232.

• E-mail: huntingeis@fws.gov.

• Fax: 503-231-6162.

You may inspect comments during normal business hours at the office of the Pacific Flyway Representative, 911 NE. 11th Ave., Portland, OR 97232. The draft SEIS is available by either writing to the street address indicated above or by viewing on our Web site at http://www.fws.gov/migratorybirds.

FOR FURTHER INFORMATION CONTACT: Robert Trost, Pacific Flyway Representative, Division of Migratory Bird Management, (503) 231-6162; or Robert Blohm, Chief, Division of Migratory Bird Management, (703) 358-1714.

SUPPLEMENTARY INFORMATION: On September 8, 2005, and again on March 9, 2006, the Service published notice in the Federal Register (70 FR 53376 and 71 FR 12216, respectively) announcing that we intended to prepare a supplemental environmental impact statement for the issuance of annual regulations permitting the hunting of migratory birds. In those notices, we invited public comments on the scope and substance of the SEIS, particular issues the SEIS should address and why, and options or alternatives we should consider. Please refer to the notices (70 FR 53376 and 71 FR 12216) for further information about our regulatory process pertaining to the hunting of migratory birds.

We received public comments on the notices, considered those comments, and developed a draft SEIS that we are making available through this notice. We are publishing this notice in accordance with the requirements of the National Environmental Policy Act of 1969 (42 U.S.C. 4321 et seq.), its implementing regulations (40 CFR Parts 1500 to 1508), and Service procedures for compliance with those regulations.

The draft SEIS evaluates seven components of the proposed action regarding how we establish the annual regulations for the hunting of migratory birds. The first six components deal with the fall-winter hunting season and include:

(1) Schedule and timing of the general regulatory process. Promulgation of annual hunting regulations relies on a well-defined process of monitoring, data collection, and scientific assessment. At key points during that process, Flyway Technical Committees, Flyway Councils, and the public review and provide valuable input on technical assessments or other documents related to proposed regulatory frameworks. After we adopt final regulatory frameworks, each State selects its seasons, usually following its own schedule of public hearings and other deliberations. After State selections are completed, the Service adopts them as Federal regulations through publication in the Federal Register. In the draft SEIS, we present four alternatives regarding the schedule and timing of the general regulatory process.

(2) Frequency of review and adoption of duck regulatory packages. Duck regulatory packages are the set of framework regulations that apply to the general duck hunting seasons. Packages include opening and closing dates, season lengths, daily bag limits, and shooting hours. Current regulatory packages contain a set of frameworks for each of the four flyways and a set of four regulatory alternatives: restrictive (relatively short seasons and low daily bag limits), moderate (intermediate season lengths and daily bag limits), liberal (longer seasons and higher daily bag limits), and closed. In the draft SEIS, we present two alternatives regarding how frequently duck regulatory packages should be reviewed and adopted.

(3) Stock-specific harvest strategies. Harvest strategies have been developed for stocks deemed not biologically capable of sustaining the same harvest levels that jointly managed stocks are capable of sustaining, or whose migration and distribution do not conform to patterns followed by the most commonly harvested species. The draft SEIS presents three alternatives regarding the use of stock-specific harvest strategies.

(4) Special regulations. Special regulations differ from stock harvest strategies because they entail additional days of harvest opportunity outside the established frameworks for general seasons. Special regulations are employed to provide additional harvest opportunity on overabundant species, species that are lightly harvested and can sustain greater harvest pressure, or stocks whose migration and distribution provide opportunities outside the time period in which regular seasons are held. In the draft SEIS, we offer two alternatives concerning the development of special regulations.

(5) Management scale for the harvest of migratory birds. We define management scale as the geographic area in which stocks are monitored and harvest is managed. The finer the scale of management employed in harvest management, the higher the cost of monitoring to management agencies. The desire for smaller management scales is driven by the potential for increased harvest opportunity associated with more refined geographic management. The draft SEIS presents three alternatives regarding the scale at which migratory birds should be managed.

(6) Zones and split seasons. A zone is a geographic area or portion of a State, with a contiguous boundary, for which an independent season may be selected. A split is a situation where a season is broken into two or more segments with a closed period between segments. The combination of zones and split seasons allows a State to maximize harvest opportunity within the Federal frameworks without exceeding the number of days allowed for a given season. In the draft SEIS, we present two alternatives regarding the use of zones and split seasons.

In addition, the draft SEIS considers a seventh component of the proposed action concerning the subsistence hunting regulations process for Alaska. Regulations governing the subsistence harvest of migratory birds provide a framework that enables the continuation of customary and traditional subsistence uses of migratory birds in Alaska. These regulations are subject to annual review and are developed under a co-management process involving the Service, the Alaska Department of Fish and Game, and Alaska Native representatives. This annual review process establishes regulations that prescribe frameworks for dates when harvesting of birds may occur, species that can be taken, and methods and means that are excluded from use. In the draft SEIS, we offer two alternatives regarding the subsistence harvest of migratory birds in Alaska.

In the draft SEIS, we also discuss the impact of cumulative harvest of migratory bird hunting on national wildlife refuges.

Finally, the draft SEIS provides and analyzes alternatives for each of these seven components with regard to their potential impacts on migratory bird species, other wildlife species, special status species, vegetation, outdoor recreational activities, physical and cultural resources, and the socioeconomic/administrative environment.

Public Comments

We invite interested persons to submit written comments, suggestions, or recommendations regarding the draft SEIS. Before preparation of any final SEIS, we will take into consideration all comments we receive. Those comments, and any additional information we receive, may lead to a final SEIS that differs from the draft SEIS.

You may submit your comments and materials concerning the draft SEIS by one of the methods listed in the ADDRESSES section.

Before including your address, phone number, e-mail address, or other personal identifying information in your comment, you should be aware that your entire comment—including your personal identifying information—may be made publicly available at any time. While you can ask us in your comment to withhold your personal identifying information from public review, we cannot guarantee that we will be able to do so.

Comments and materials we receive, as well as supporting documentation we used in preparing the draft SEIS, will be available for public inspection, by appointment, during normal business hours, at the office of the Pacific Flyway Representative, 911 NE. 11th Ave., Portland, OR 97232.

Dated: May 6, 2010.
Rowan W. Gould,
Acting Director, U.S. Fish and Wildlife Service.

[FR Doc. 2010-16711 Filed 7-8-10; 8:45 am]

BILLING CODE 4310-55-P